DEPARTMENT OF COMMERCE.

International Trade Administration

[C-423-806, C-401-804, C-412-815]

Cut-to-Length Carbon Steel Plate from Belgium, Sweden, and the United Kingdom; Extension of Time Limits for Preliminary and Final Results of Full Five-year (“Sunset”) Reviews of Countervailing Duty Orders

AGENCY: Import Administration, International Trade Administration, Department of Commerce.

EFFECTIVE DATE: February 10, 2006.

FOR FURTHER INFORMATION CONTACT: Martha Douthit or Dana Mermelstein, AD/CVD Operations, Office 6, Import Administration, International Trade Administration, U.S. Department of Commerce, 14th Street & Constitution Avenue, N.W., Washington, D.C. 20230; telephone: (202) 482-5050 or (202) 482-1391, respectively.

Background

On November 1, 2005, the Department of Commerce (“the Department”) published in the Federal Register the notice of initiation of its sunset reviews of the countervailing duty orders on cut-to-length carbon steel plate (“CTL steel plate”) from Belgium, Sweden, and the United Kingdom (“UK”). See Initiation of Five-year (“Sunset”) Reviews, 70 FR 65884 (November 1, 2005). On November 16, 2005, the domestic interested parties IPSCO Steel Inc., Mittal Steel USA ISG, Inc., Nucor Corporation, Oregon Steel Mills, Inc., the United Steel, Paper and Forestry, Rubber, Manufacturing, Energy, Allied Industrial and Service Workers International Union, and AFL-CIO-CLC (“USW”), submitted letters indicating their intent to participate in the sunset reviews. On November 30, 2005 and December 1, 2005, domestic and respondent interested parties provided substantive responses as required under section 351.218 (d)(3)(i) of the Department's regulations. In all three cases, respondent interested parties (for Belgium, the Government of Belgium, the European Commission, Arcelor S.A., and Duferco Clabecq S.A.; for Sweden, the Government of Sweden, the European Commission, and SSAB Svenskt Stal; for the UK, the Government of the United Kingdom, the European Commission, Niagara LaSalle UK Limited, Spartan UK Ltd., and Corus Group, plc), included, in their substantive responses, arguments regarding the privatization or private-to-private changes in ownership which affected the respondent companies, and the effect of those transactions on previously bestowed subsidies.

On December 21, 2005, the Department determined that the participation of the respondent interested parties was adequate, and that it was appropriate to conduct full sunset reviews. See Memoranda to Steven J. Claeys: Adequacy Determination; Sunset Review of the Countervailing Duty Order on Cut-to-Length Carbon Steel Plate from Belgium; Adequacy Determination; Sunset Review of the Countervailing Duty Order on Cut-to-Length Carbon Steel Plate from Sweden; Adequacy Determination; Sunset Review of the Countervailing Duty Order on Cut-to-Length Carbon Steel Plate from the United Kingdom, dated December 21, 2005, and on file in the Central Records Unit, Room B 099 of the Department of Commerce building.

Extension of Time Limits for Preliminary and Final Results of Reviews

The Tariff Act of 1930, as amended (“the Act”), provides for the completion of a full sunset review within 240 days of the publication of the initiation notice. See section 751(c)(5)(A) of the Act. The U.S. Department of Commerce, (“the Department”) may extend the period of time for issuing the final results of an expedited sunset review if it determines that the review is extraordinarily complicated. This deadline may be extended by 90 days under section 751(c)(5)(B) of the Act if the Department determines that the review is extraordinarily complicated. We determine that these reviews are extraordinarily complicated under subsections 751(c)(5)(C) (i) (“there are a large number of issues”), (ii) (“the issues to be considered are complex”) and (v) (“it is a review of a transition order”) of the Act. Thus, it is appropriate to extend the final results of review by not more than 90 days. As such, our final results are now due on or before September 27, 2006.

With respect to the preliminary results of these sunset reviews, the Department's regulations, at section 351.218(f)(3), provide that the Department normally will issue its preliminary results in a full sunset review not later than 110 days after the initiation, in these cases, by February 19, 2006. However, due to the reasons cited above, we require additional time to conduct the analysis required for the preliminary results. Therefore, we are extending the deadline for the preliminary results of these full sunset reviews of the countervailing duty orders on cut-to-length carbon steel plate from Belgium, Sweden, and the United Kingdom to no later than July 14, 2006.

This notice is issued in accordance with sections 751(c)(5)(B) and 751(c)(5)(C) of the Act.

Dated: February 6, 2006.
Stephen J. Claeys,
Deputy Assistant Secretary for Import Administration.

[FR Doc. E6-1874 Filed 2-9-06; 8:45 am]

BILLING CODE 3510-DS-S